DEPARTMENT OF COMMERCE

International Trade Administration

[A-337-803]

Notice of Partial Rescission of Antidumping Duty Administrative Review: Fresh Atlantic Salmon from Chile

AGENCY: Import Administration, International Trade Administration, Department of Commerce.

SUMMARY: In response to requests by eleven producers/exporters of subject merchandise and the petitioners, the Department of Commerce (the Department) is conducting an administrative review of the antidumping duty order on fresh Atlantic salmon from Chile. This review covers thirteen producers/exporters of the subject merchandise for the period of review from July 1, 1999, through June 30, 2000. The administrative review of the remaining 70 companies originally requested by the petitioners is being rescinded.

EFFECTIVE DATE: December 26, 2000.

FOR FURTHER INFORMATION CONTACT: Edward Easton or Gabriel Adler, at (202) 482-3003 or (202) 482-3813, respectively; AD/CVD Enforcement, Office V, Group II, Import Administration, International Trade Administration, U.S. Department of Commerce, 14th Street and Constitution Avenue, NW, Washington, DC 20230.

SUPPLEMENTARY INFORMATION:

Applicable Statute and Regulations

Unless otherwise indicated, all citations to the Tariff Act of 1930, as amended (the Act), are references to the provisions effective January 1, 1995, the effective date of the amendments made to the Act by the Uruguay Round Agreements Act. In addition, unless otherwise indicated, all citations to the Department's regulations are to 19 CFR Part 351 (2000).

Case History

On July 30, 1998, the Department's Notice of Amended Final Determination of Sales at Less than Fair Value and Antidumping Duty Order: Fresh Atlantic Salmon from Chile was published in the Federal Register (63 FR 40699 (July 30, 1998)). On July 9, 1999, the Department issued a notice of opportunity to request the second administrative review of this order. See Antidumping or Countervailing Duty Order, Finding, or Suspended Investigation; Opportunity to Request Administrative Review, 65 FR 45,036 (July 20, 2000). On July 31, 2000, in accordance with 19 CFR 351.213(b), the Coalition for Fair Atlantic Salmon Trade (the petitioners) requested a review of 83 producers/exporters of fresh Atlantic salmon.

On August 25, 2000, the Department published the notice of initiation of this antidumping duty administrative review, covering the period July 1, 2000, through June 30, 2000. See Initiation of Antidumping and Countervailing Duty Administrative Reviews and Requests for Revocation in Part, 65 FR 53980 (September 6, 2000).

On September 12, 2000, the petitioners withdrew their request for all companies except: (1) Best Salmon; (2) Chisal S.A (Chisal); (3) Cultivadora de Salmones Linao Ltda. (Linao); (4) Cultivos Marinos Chiloe Ltda. (Cultivos Marinos); (5) Fiordo Blanco, S.A. (Fiordo Blanco); (6) Fitz Roy S.A.; (7) Invertec Pesquera Mar de Chiloe, S.A. (Invertec); (8) Pesca Chile S.A.; (9) Pesquera Eicosal Ltda. (Eicosal); (10) Pesquera Mares Australes Ltda. (Mares Australes); (11) Salmones Mainstream, S.A. (Mainstream); (12) Salmones Multiexport Ltda. (Multiexport); (13) Salmones Pacific Star Ltda. (Pacific Star); (14) Salmones Pacifico Sur, S.A. (Pacifico Sur); and (15) Salmones Tecmar, S.A. (Tecmar).

Partial Rescission of Antidumping Duty Administrative Review

By their letter of September 12, 2000, the petitioners withdrew their requests for an administrative review of the following companies:

Acuicultura de Aquas Australes

Agromar Ltda.

Aguas Claras S.A.

Antarfish S.A.

Aquachile S.A.

Aquasur Fisheries Ltda.

Asesoria Acuicola S.A.

Australis S.A.

Cenculmavique

Centro de Cultivo de Moluscos

Cerro Farrellon Ltda.

Comercializadora Smoltech Ltda.

Complejo Piscicola Coyhaique

Cultivos San Juan

Cultivos Yardan S.A.

Empresa Nichiro Chile Ltda.

Fisher Farms

Friosur S.A.

Ganadera Del Mar

G.M. Tornagaleones S.A.

Hiuto Salmones S.A.

Huitosal Mares Australes Salmo Pac.

Instituto Tecnologico Del Salmon S.A.

Inversiones Pacific Star Ltda.

Manao Bay Fishery S.A.

Mardim Ltda.

Ocean Horizons Chile S.A.

Pacific Mariculture

Patagonia Fish Farming S.A.

Patagonia Salmon Farming S.A.

Pesquera Antares S.A.

Pesquera Chiloe S.A.

Pesquera Friosur S.A.

Pesquera Los Fiordos Ltda.

Pesquera Mares de Chile S.A.

Pesquera Pacific Star

Pesquera Quellon Ltda.

Pesquera Y Comercial Rio Peulla S.A.

Piscicola Entre Rios S.A.

Piscicultura Iculpe

Piscicultura La Cascada

Piscultura Santa Margarita

Prosmolt S.A.

Quetro S.A.

River Salmon S.A.

Robinson Crusoe Y Cia. Ltda.

Salmoamerica

Salmones Andes S.A.

Salmones Antarctica S.A.

Salmones Aucar Ltda.

Salmones Caicaen S.A.

Salmones Calbuco S.A.

Salmones Chiloe S.A.

Salmones Friosur S.A.

Salmones Huillinco S.A.

Salmones Ice Val Ltda.

Salmones Llanquihue

Salmones Quellon

Salmones Ranco Sur Ltda.

Salmones Tierra Del Fuego Ltda.

Salmones Unimarc S.A.

Salmosan

Seafine Salmon S.A.

Soc. Alimentos Maritimos Avalon Ltda.

Soc. Aquacultivos Ltda.

Truchas Aguas Blancas Ltda.

Trusal S.A.

Ventisqueros S.A.

Subsequently, on September 26, and on October 16, 2000, the petitioners withdrew their request that the Department conduct an administrative review of the entries of Best Salmon and of Invertec, respectively. No other party requested an administrative review of any of these companies.

Pursuant to 19 CFR 315.213(d)(1), we are rescinding the administrative review with respect to each of the companies for which the petitioners withdrew their request for such a review.

This determination is issued and published in accordance with section 751(a)(1) of the Act.

Dated: December 18, 2000.
Holly Kuga,
Acting Deputy Assistant Secretary, Group II, Import Administration.

[FR Doc. 00-32792 Filed 12-22-00; 8:45 am]

BILLING CODE 3510-DS-P